DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5:00 P.M. in Room 4211, U.S. Department of Commerce, 14th Street and Constitution Avenue, NW., Washington, DC.

Docket Number: 00-035. Applicant: Washington University School of Medicine, Department of Anesthesiology Research Unit, 660 South Euclid, Campus Box 8054, St. Louis, MO 63110. Instrument: Motorized Manipulator. Manufacturer: Luigs and Neumann, Germany. Intended Use: The instrument will be used to move the microelectrode for patch clamping the synaptic terminal during studies of synaptic connections between neurons to determine the electrical properties of a synapse in the auditory system in the rat. Application accepted by Commissioner of Customs: October 20, 2000.

Docket Number: 00-036. Applicant: University of Wisconsin-Madison, Electrical and Computer Engineering, 1415 Engineering Drive, Madison, WI 53706. Instrument: Telecommunications Instrumentation Modeling System, Model TIMS-301. Manufacturer: Emona Instruments Pty Ltd., Australia. Intended Use: The instrument will be used in the creation of an undergraduate communication laboratory as companion courses to the undergraduate communications systems sequence, ECE436 and ECE437. Such laboratories are essential to prepare students for the communications industry. Students in these courses will use the system to simulate different modulations and demodulation techniques by constructing modems. The planned experiments will reinforce the theory presented in the classroom and provide students with hands-on-experience. Application accepted by Commissioner of Customs: October 20, 2000.

Gerald A. Zerdy,
Program Manager, Statutory Import Programs Staff.

[FR Doc. 00-29255 Filed 11-14-00; 8:45 am]

BILLING CODE 3510-DS-P